DEPARTMENT OF THE INTERIOR

Minerals Management Service (MMS)

Outer Continental Shelf (OCS), Scientific Committee (SC)

AGENCY: Minerals Management Service, Interior.

ACTION: Notice of vacancies and request for nominations.

SUMMARY: The MMS is seeking interested and qualified individuals to serve on its OCS SC during the period of March 31, 2006, through March 30, 2008. The initial 2-year term may be renewable for up to an additional 4 years. The OCS SC is chartered under the Federal Advisory Committee Act to advise the Director of the MMS on the appropriateness, feasibility, and scientific value of the OCS Environmental Studies Program (ESP) and environmental aspects of the offshore energy and marine minerals programs. The ESP, which was authorized by the OCS Lands Act as amended (Section 20), is administered by the MMS and covers a wide range of field and laboratory studies in biology, chemistry, and physical oceanography, as well as studies of the social and economic impacts of OCS energy and marine minerals development. Currently, the work is conducted through award of competitive contracts and interagency and cooperative agreements. The OCS SC reviews the relevance of the information being produced by the ESP and may recommend changes in its scope, direction, and emphasis.

The OCS SC comprises distinguished scientists in appropriate disciplines of the biological, physical, chemical, and socioeconomic sciences. Vacancies which need to be filled exist in the social and biological science disciplines. The selection is based on maintaining disciplinary expertise in all areas of research, as well as geographic balance. Demonstrated knowledge of the scientific issues related to OCS oil and gas development is essential. Selection is made by the Department of the Interior on the basis of these factors; appointments to the Committee are made by the Secretary of the Interior.

Ethics Responsibilities of Members

No Council or subcommittee member shall participate in any matter specifically concerning a lease, license, permit, contract, claim, agreement or related litigation in which the member has a direct interest.

Under applicable ethic laws, appointments carry with it the status of “special government employee.” This means that Committee members will be subject to many of the same standards of conduct that apply to Federal employees in general, including the avoidance of conflict of interest and the filing of confidential financial disclosure forms.

Interested individuals should send a letter of interest and resume within 30 days to: Ms. Phyllis Clark, Offshore Minerals Management, Minerals Management Service, 381 Elden Street, Mail Stop 4041, Herndon, Virginia 20170. She may be reached by telephone at (703) 787-1716.

Authority: Federal Advisory Committee Act, Pub. L. 92-463, 5 U.S.C., Appendix I, and the Office of Management and Budget's Circular A-63, Revised.

Dated: October 17, 2005.
Thomas A. Readinger,
Associate Director for Offshore Minerals Management.

[FR Doc. 05-22631 Filed 11-14-05; 8:45 am]

BILLING CODE 4310-MR-P